DEPARTMENT OF ENERGY

Federal Energy Regulatory Commission

Combined Notice of Filings #1

Take notice that the commission received the following accounting Request filings:

Docket Numbers: AC25-33-000.

Applicants: Michigan Electric Transmission Company LLC.

Description: Michigan Electric Transmission Company LLC submits proposed journal entries for its acquisition of electric plant conveyed by Corteva Agriscience LLC consummated on or about 09/20/2024.

Filed Date: 12/9/24.

Accession Number: 20241209-5129.

Comment Date: 5 p.m. ET 12/30/24.

Take notice that the Commission received the following electric corporate filings:

Docket Numbers: EC25-26-000.

Applicants: Jackson Generation, LLC.

Description: Application for Authorization Under Section 203 of the Federal Power Act of Jackson Generation, LLC.

Filed Date: 12/6/24.

Accession Number: 20241206-5228.

Comment Date: 5 p.m. ET 12/27/24.

Take notice that the Commission received the following exempt wholesale generator filings:

Docket Numbers: EG25-52-000.

Applicants: Amite Solar, LLC.

Description: Amite Solar, LLC submits Notice of Self-Certification of Exempt Wholesale Generator Status.

Filed Date: 12/9/24.

Accession Number: 20241209-5065.

Comment Date: 5 p.m. ET 12/30/24.

Docket Numbers: EG25-53-000.

Applicants: Green River Solar, LLC.

Description: Green River Solar, LLC submits Notice of Self-Certification of Exempt Wholesale Generator Status.

Filed Date: 12/9/24.

Accession Number: 20241209-5097.

Comment Date: 5 p.m. ET 12/30/24.

Take notice that the Commission received the following electric rate filings:

Docket Numbers: ER10-1355-015.

Applicants: Southern California Edison Company.

Description: Triennial Market Power Analysis for Southwest Region of Southern California Edison Company.

Filed Date: 12/6/24.

Accession Number: 20241206-5226.

Comment Date: 5 p.m. ET 2/4/25.

Docket Numbers: ER23-1816-005.

Applicants: New York Independent System Operator, Inc., New York State Electric & Gas Corporation.

Description: Compliance filing: New York Independent System Operator, Inc. submits tariff filing per 35: NYSEG Compliance: Rate Schedule 19 Formula Rate Template to be effective 7/3/2023.

Filed Date: 12/9/24.

Accession Number: 20241209-5130.

Comment Date: 5 p.m. ET 12/30/24.

Docket Numbers: ER23-1817-005.

Applicants: New York Independent System Operator, Inc., New York State Electric & Gas Corporation, Rochester Gas and Electric Corporation.

Description: Compliance filing: New York Independent System Operator, Inc. submits tariff filing per 35: RG&E Compliance: Rate Schedule 19 Formula Rate Template to be effective 7/3/2023.

Filed Date: 12/9/24.

Accession Number: 20241209-5142.

Comment Date: 5 p.m. ET 12/30/24.

Docket Numbers: ER23-2507-004.

Applicants: Central Hudson Gas & Electric Corporation, New York Independent System Operator, Inc.

Description: Compliance filing: New York Independent System Operator, Inc. submits tariff filing per 35: Central Hudson Compliance: Rate Schedule 19 Formula Rate Template to be effective 9/27/2023.

Filed Date: 12/9/24.

Accession Number: 20241209-5038.

Comment Date: 5 p.m. ET 12/30/24.

Docket Numbers: ER24-672-005; ER24-673-005.

Applicants: PGR 2022 Lessee 5, LLC, Moonshot Solar, LLC.

Description: Notice of Non-Material Change in Status of Moonshot Solar, LLC, et al.

Filed Date: 12/5/24.

Accession Number: 20241205-5217.

Comment Date: 5 p.m. ET 12/26/24.

Docket Numbers: ER25-677-000.

Applicants: Badger State Solar, LLC.

Description: Request for Limited and Prospective Tariff Waiver of Badger State Solar, LLC.

Filed Date: 12/6/24.

Accession Number: 20241206-5218.

Comment Date: 5 p.m. ET 12/27/24.

Docket Numbers: ER25-680-000.

Applicants: Niagara Mohawk Power Corporation, New York Independent System Operator, Inc.

Description: § 205(d) Rate Filing: New York Independent System Operator, Inc. submits tariff filing per 35.13(a)(2)(iii: NYISO-National Grid Joint 205: Amnd SGIA Tayandenega Solar SA 2600 to be effective 11/23/2024.

Filed Date: 12/9/24.

Accession Number: 20241209-5169.

Comment Date: 5 p.m. ET 12/30/24.

Docket Numbers: ER25-681-000.

Applicants: Niagara Mohawk Power Corporation, New York Independent System Operator, Inc.

Description: § 205(d) Rate Filing: New York Independent System Operator, Inc. submits tariff filing per 35.13(a)(2)(iii: NYISO-National Grid Joint 205: Amended SGIA Rock District SA 2662 to be effective 11/23/2024.

Filed Date: 12/9/24.

Accession Number: 20241209-5180

Comment Date: 5 p.m. ET 12/30/24.

Docket Numbers: ER25-682-000.

Applicants: PJM Interconnection, L.L.C.

Description: § 205(d) Rate Filing: Revisions to Reliability Pricing Model and Request for a 28-Day Comment Period to be effective 2/18/2025.

Filed Date: 12/9/24.

Accession Number: 20241209-5207.

Comment Date: 5 p.m. ET 12/30/24.

Docket Numbers: ER25-683-000.

Applicants: PJM Interconnection, L.L.C.

Description: § 205(d) Rate Filing: Amendment to ISA, Service Agreement No.7023, Queue No. AF2-092 to be effective 2/8/2025.

Filed Date: 12/9/24.

Accession Number: 20241209-5215.

Comment Date: 5 p.m. ET 12/30/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 9, 2024.
Carlos D. Clay,
Acting Deputy Secretary.

[FR Doc. 2024-29396 Filed 12-12-24; 8:45 am]

BILLING CODE 6717-01-P